DEPARTMENT OF HOMELAND SECURITY

Transportation Security Administration

[Docket No. TSA-2003-14610]

Intent To Request Renewal From OMB of One Current Public Collection of Information: Security Threat Assessment for Individuals Applying for a Hazardous Materials Endorsement for a Commercial Drivers License

AGENCY: Transportation Security Administration, DHS.

ACTION: Notice.

SUMMARY: The Transportation Security Administration (TSA) invites public comment on one currently approved information collection requirement, under OMB control number 1652-0027, abstracted below that we will submit to the Office of Management and Budget (OMB) for renewal in compliance with the Paperwork Reduction Act. The collection involves applicant submission of biometric and biographic information for TSA's security threat assessment in order to obtain the hazardous materials endodrsement (HME) on a commercial drivers license (CDL) issued by the U.S. States and the District of Columbia.

DATES: Send your comments by February 26, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The information collection request (ICR) documentation is available at www.reginfo.gov. Therefore, in preparation for OMB review and approval of the following information collection, TSA is inviting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

TSA is requesting renewal of the currently approved ICR with minor changes. This collection supports the implementation of section 1012 of the USA PATRIOT Act (Pub. L. 107-56, 115 Stat. 272, 396, Oct. 26, 2001), which mandates that no State or the District of Columbia may issue a hazardous materials endorsement (HME) on a commercial driver's license (CDL) unless TSA has first determined the driver is not a threat to transportation security. On November 24, 2004, TSA published the final rule in the Federal Register (69 FR 68720), codified at 49 CFR part 1572, that describes the procedures, standards, and eligibility criteria for security threat assessments on individuals seeking to obtain, renew, or transfer HME on a CDL. TSA subsequently amended the rule on January 25, 2007 (72 FR 3492). In order to conduct the security threat assessment, States (or a TSA designated agent in States that elect to have TSA perform the collection of information) must collect information in addition to that already collected for the purpose of HME applications, which will occur once approximately every five years. The driver is required to submit an application that includes personal biographic information (for instance, height, weight, eye and hair color, date of birth); information concerning legal status, mental health defects history, military status, and criminal history; as well as fingerprints. TSA is amending the application to collect minor additional information, such as whether the driver is a new applicant or renewing or transferring the HME, to better understand and forecast driver retention, transfer rate, and drop-rate to help improve customer service, reduce program costs, and provide comparability with other Federal background checks, including Transportation Workers Identification Credential (TWIC). In addition, the rule (49 CFR 1572) requires States to maintain a copy of the driver application for a period of one year.

From 2008 through 2010, TSA estimates respondent drivers will spend approximately 3.4 million hours on the application and background check process. TSA estimates an annualized 348,000 respondents will apply for an HME, and that the application and background check process will involve 1.1 million annualized hours. TSA estimates the total costs to respondent drivers will be $92.8 million over the three-year period ($31 million annualized).

Issued in Arlington, Virginia, on December 20, 2007.
Fran Lozito,
Director, Business Management Office, Operational Process and Technology.

[FR Doc. 07-6231 Filed 12-27-07; 8:45 am]

BILLING CODE 9110-05-M